DEPARTMENT OF HOUSING AND URBAN DEVELOPMENT

[Docket No. FR-6551-N-02]

Future of the HECM and HMBS Programs and Opportunities for Innovation in Accessing Home Equity; Re-Opening the Public Comment Period

AGENCY: Office of the Assistant Secretary for Housing—Federal Housing Commissioner and the Government National Mortgage Association, Department of Housing and Urban Development (HUD).

ACTION: Request for information; re-opening of comment period.

SUMMARY: On October 2, 2025, the Department of Housing and Urban Development (HUD) published a Request for Information (RFI) in the Federal Register titled “Future of the HECM and HMBS Programs and Opportunities for Innovation in Accessing Home Equity.” This RFI seeks public comments regarding the market for senior homeowners to access equity in their homes and possible improvements to the Home Equity Conversion Mortgage (HECM) and HECM mortgage-backed securities (HMBS) programs. The RFI provided for a 60-day comment period, which ended on December 1, 2025. This notice re-opens the comment period until January 5, 2026.

DATES: The comment period for the RFI published on October 2, 2025, at 90 FR 47808, is re-opened until January 5, 2026. Late-filed comments will be considered to the extent practicable.

ADDRESSES: Interested persons are invited to submit comments responsive to this RFI. Copies of all comments submitted are available for inspection and downloading at www.regulations.gov. To receive consideration as public comments, comments must be submitted through one of the two methods specified below. All submissions must refer to the above docket number and title. Commenters are encouraged to identify the number of the specific question or questions to which they are responding. Responses should include the name(s) of the person(s) or organization(s) filing the comment; however, because any responses received by HUD will be publicly available, responses should not include any personally identifiable information or confidential commercial information.

1. Electronic Submission of Comments. Interested persons may submit comments electronically through the Federal eRulemaking Portal at http://www.regulations.gov.

2. Submission of Comments by Mail. Comments may be submitted by mail to the Regulations Division, Office of General Counsel, Department of Housing and Urban Development, 451 7th Street SW, Room 10276, Washington, DC 20410-0500.

FOR FURTHER INFORMATION CONTACT: Elizabeth Davis, Housing Program Officer, Office of Housing, Department of Housing and Urban Development, 451 7th Street SW, Room 9262-9280, Washington, DC 20410-0500; telephone number 202- 202-402-4491 or (800) CALL-FHA (1-800-225-5342); email sffeedback@hud.gov. HUD welcomes and is prepared to receive calls from individuals who are deaf or hard of hearing, as well as individuals with speech and communication disabilities. To learn more about how to make an accessible telephone call, please visit: https://www.fcc.gov/consumers/guides/telecommunications-relay-service-trs.

SUPPLEMENTARY INFORMATION: On October 2, 2025, HUD published in the Federal Register an RFI entitled “Future of the HECM and HMBS Programs and Opportunities for Innovation in Accessing Home Equity.” The RFI provided for a 60-day comment period, which ended on December 1, 2025. However, due to the Federal government shutdown that occurred on October 1, 2025, HUD has decided to re-open the comment period until January 5, 2026, to give commenters additional time to provide market feedback on opportunities to enhance the HECM and HMBS programs and the appropriate role of these programs in facilitating access to home equity for senior homeowners.

Frank Cassidy,
Principal Deputy Assistant Secretary for Housing.
Joseph Gormley,
Executive Vice President and Chief Operating Officer for Ginnie Mae.

[FR Doc. 2025-22409 Filed 12-9-25; 8:45 am]

BILLING CODE 4210-67-P